DEPARTMENT OF HEALTH AND HUMAN SERVICES

Health Resources and Services Administration

Meeting of the National Advisory Council on Migrant Health

AGENCY: Health Resources and Services Administration (HRSA), Department of Health and Human Services (HHS).

ACTION: Notice.

SUMMARY: The Secretary's National Advisory Council on Migrant Health (NACMH) has scheduled a public meeting. Information about NACMH and the agenda for this meeting can be found on the NACMH website at https://bphc.hrsa.gov/qualityimprovement/strategicpartnerships/nacmh/index.html.

DATES: May 22, 2019, 9:00 a.m. to 5:00 p.m. Eastern Time (ET), and May 23, 2019, 9:00 a.m. to 5:00 p.m. ET.

ADDRESSES: The meeting will be held in-person. The address for the meeting is The College at Brockport, State University of New York (SUNY), Cooper Hall, 350 New Campus Drive, Brockport, New York 14420.

FOR FURTHER INFORMATION CONTACT: Esther Paul, Designated Federal Official, (DFO), Office of Policy and Program Development, Bureau of Primary Health Care, HRSA, 5600 Fishers Lane, 16N38B, Rockville, Maryland 20857; (301) 594-4300; or epaul@hrsa.gov.

SUPPLEMENTARY INFORMATION: NACMH provides advice and recommendations to the Secretary of HHS (Secretary) on policy, program development, and other matters of significance concerning the activities under section 217 of Title 42 U.S.C. 218 of the Public Health Service (PHS) Act.

During the May 22-23, 2019, meeting, NACMH will hear presentations from a federal official and experts, and discuss issues facing migrant and seasonal agricultural workers, including the status of agricultural worker health at the local and national levels. Topics addressed at this meeting include health care for aging farmworkers, oral health, and sexual harassment in the agricultural industry. In addition, during the first day of the meeting, on May 22, 2019, the council will hear public comments from migratory and seasonal agricultural workers regarding matters affecting their health. Agenda items are subject to change as priorities dictate. Refer to the NACMH website for any updated information concerning the meeting at https://bphc.hrsa.gov/qualityimprovement/strategicpartnerships/nacmh/index.html.

Members of the public will have the opportunity to provide comments. Public participants may submit written statements in advance of the scheduled meeting. Oral comments will be honored in the order they are requested and may be limited as time allows. Requests to submit a written statement or make oral comments to NACMH should be sent to Esther Paul, DFO, using the contact information above at least three business days prior to the meeting.

Individuals who plan to attend and need special assistance or another reasonable accommodation should notify Esther Paul at the address and phone number listed above at least 10 business days prior to the meeting.

Amy P. McNulty,
Acting Director, Division of the Executive Secretariat.

[FR Doc. 2019-02927 Filed 2-20-19; 8:45 am]

BILLING CODE 4165-15-P